NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by November 9, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2016-016

1. Applicant: Dr. Philip R. Kyle, Department of Earth and Environmental Science, New Mexico Institute of Mining and Technology, Socorro, NM 87801.

Activity for Which Permit Is Requested

ASPA entry; Applicant wishes to enter Cape Crozier (ASPA 124) and High Altitude Geothermal Sites of the Ross Sea Region (ASPA 175) in order to make GPS measurements to monitor ground deformation to help predict volcanic eruptions. Applicant will also collect some lava samples.

Location

ASPA 124: Cape Crozier; ASPA 175: High Altitude Geothermal Sites of the Ross Sea Region.

Dates

January 1, 2016-February 15, 2017.

Nadene G. Kennedy,
Polar Coordination Specialist, Division of Polar Programs.

[FR Doc. 2015-25610 Filed 10-7-15; 8:45 am]

BILLING CODE 7555-01-P